DEPARTMENT OF ENERGY

Office of Environmental Management; Advance Notice of Intent To Prepare an Environmental Impact Statement for Area IV of the Santa Susana Field Laboratory and Public Involvement Activities

AGENCY: Department of Energy.

ACTION: Advance Notice of Intent.

SUMMARY: The U.S. Department of Energy (DOE) is providing an Advance Notice of its Intent (ANOI) to prepare an Environmental Impact Statement (EIS) for remediation of Area IV of the Santa Susana Field Laboratory (SSFL). DOE is preparing the EIS in response to a May 2, 2007, decision by the U.S. District Court of Northern California that a 2003 DOE decision to prepare a Finding of No Significant Impact (FONSI) and conduct remediation of Area IV on the basis of an environmental assessment, rather than prepare an EIS, violated the National Environmental Policy Act (NEPA). DOE is also requesting early comments from the public and other stakeholders on the scope of the EIS and issues to be considered in EIS analysis. To facilitate collaboration on these EIS issues, DOE also is announcing plans for public involvement activities to be held this fall, to provide information to its stakeholders and to receive comments from them.

DOE is issuing this ANOI, pursuant to 10 CFR 1021.311(b), in order to inform and request early comments and assistance from Federal and State agencies, State and local governments, natural resource trustees, the general public, and other interested parties on the appropriate scope of the EIS, possible environmental issues, and the potential environmental impacts related to DOE's proposed activities for Area IV. Following the issuance of this ANOI, DOE intends to collect updated information that it will incorporate into the EIS analysis.

DOE will conduct community and regulator interviews through November 2007. These public involvement opportunities will focus on consultation with the public about the process for EIS scoping, the development of the range of reasonable alternatives to be analyzed in the EIS, and related public concerns about the remediation. If, based on community input, DOE decides to hold a public meeting, DOE will notify the community through local media. Early comments on the scope of the EIS and issues to be considered are due by December 14, 2007. Though DOE will attempt to consider comments received after this date, it will only be able to do so to the extent practicable. DOE plans to issue a Notice of Intent (NOI) for this EIS in the spring of calendar year 2008.

ADDRESSES: Please direct requests to be notified of interviews or a public meeting, comments on the scope of the EIS, and questions concerning the proposed project to: Stephanie Jennings, NEPA Document Manager, Office of Site Support and Small Projects (EM-3.2), U.S. Department of Energy, Energy Technology Engineering Center, P.O. Box 10300, Canoga Park, CA 91309, telephone: 818-466-8162, fax: 818-466-8730, or e-mail to: Stephanie.Jennings@em.doe.gov (use “ANOI comments” for the subject).

FOR FURTHER INFORMATION CONTACT: To request further information about this EIS or about the public involvement activities, or to be placed on the EIS distribution list, use any of the methods listed under ADDRESSES above. For general information concerning the DOE NEPA process, contact Carol Borgstrom, Director, Office of NEPA Policy and Compliance (GC-20), U.S. Department of Energy, 1000 Independence Avenue, SW., Washington, DC 20585-0119, e-mail to: AskNEPA@hq.doe.gov, telephone: 202-586-4600, leave a message at 1-800-472-2756, or fax: 202-586-7031.

This Advance Notice of Intent (ANOI) will be available on the Internet at: http://www.eh.doe.gov/NEPA. Further information about Area IV and the Energy Technology Engineering Center (ETEC) can be found at http://apps.em.doe.gov/etec/.

SUPPLEMENTARY INFORMATION:

Background

Santa Susana Field Laboratory (SSFL), located on approximately 2,850 acres in the hills between Chatsworth and Simi Valley, CA, was developed as a remote site to test rocket engines and conduct nuclear research. The Atomics International Unit of Rockwell International's Canoga Park-based Rocketdyne Division began testing in 1947, and conducted an estimated 17,000 open-air rocket tests in support of the space program. In 1996, Rockwell International sold its aerospace and defense business, including the SSFL to The Boeing Company (Boeing).

SSFL is divided in four administrative areas—Area I, Area II, Area III, and Area IV—along with two buffer zones. Area I is about 713 acres, of which 671 acres is owned and operated by Boeing and 42 acres is owned by the National Aeronautics and Space Administration (NASA) and operated for it by Boeing. Area II, about 410 acres, is owned by NASA and operated for it by Boeing. Area III, about 114 acres, is owned and operated by Boeing. Area IV, about 290 acres, is owned by Boeing, which operates it for DOE. Boeing also owns a contiguous buffer zone of 1143 acres to the south and a contiguous buffer zone of 182 acres to the north.

Starting in the mid-1950s, the Atomic Energy Commission (AEC), a predecessor agency of DOE, funded nuclear energy research on a 90-acre parcel of Area IV leased from Rocketdyne. The Energy Technology and Engineering Center (ETEC) was established by the AEC on this parcel in the early 1960s as a “center of excellence” for liquid metals technology.

The AEC built a small nuclear power plant to deliver energy to the commercial grid at the ETEC. Research also included testing of nuclear powered systems, for example, using liquid metals for space vehicles and a sodium coolant medium in 10 small reactors. All reactor operations ended in 1980 and nuclear research work was completed in 1988. Cleanup of ETEC began in the 1960s and was performed in an ongoing manner as unnecessary facilities were decommissioned when there was no longer a use for them. DOE continues to lease the 90 acre parcel in Area IV from Boeing.

In March 2003, DOE issued an Environmental Assessment (EA), Environmental Assessment for Cleanup and Closure of the Energy Technology Engineering Center, DOE/EA-1345. Based on the results of the EA, DOE determined that an EIS was not required and issued a FONSI in March 2003.

DOE is now preparing an SSFL Area IV EIS in response to the U.S. District Court of Northern California's May 2, 2007, ruling in the case Natural Resources Defense Council v. Department of Energy Slip Op. WL2349288 (N.D. Cal. Aug.15, 2007), which held that DOE's decision to issue a FONSI and conduct cleanup and closure on the basis of DOE/EA-1345 was in violation of NEPA. The Court ordered DOE to prepare an EIS for Area IV in accordance with NEPA. The Court further permanently enjoined the DOE from transferring ownership or possession, or otherwise relinquishing control over any portion of Area IV, until DOE completes the EIS and issues a Record of Decision pursuant to NEPA. In addition, the Court retained jurisdiction until it is satisfied that the DOE has met its legal obligations as they relate to the remediation of Area IV.

Because of the Court's decision, DOE suspended the physical demolition and removal activities for the remaining facilities at ETEC except for those activities necessary to maintain the site in a safe and stable configuration. DOE has discontinued planned decontamination and decommission activities, but is continuing surveillance, maintenance, and environmental monitoring work, including soil and groundwater characterization required under the State of California Department of Toxic Substances Control (DTSC) regulations, while it prepares the EIS.

In August 2007, DTSC issued a Consent Order to DOE, NASA and Boeing under its Resource Conservation and Recovery Act (RCRA) authority. This Order requires cleanup of all chemically contaminated soils at SSFL by 2017 or earlier, provides the option for DTSC to require more work to be conducted offsite of Area IV to assess air, soil and water contamination, and requires the preparation of an Environmental Impact Report, pursuant to the California Environmental Quality Act.

Early Public Involvement and Related Activities

DOE is issuing this ANOI, pursuant to 10 CFR 1021.311(b), in order to inform and request early comments and assistance from Federal and State agencies, State and local governments, natural resource trustees, the general public, and other interested parties on the scope of the EIS, proposed environmental issues, and the potential environmental impacts related to DOE's potential activities at this site. Following the issuance of this ANOI, DOE intends to collect updated information that it will incorporate into the EIS analysis.

Purpose and Need for Agency Action

DOE needs to complete remediation of Area IV to comply with applicable regulations and allow for an evaluation of the range of reasonable alternatives. The remediation will include cleanup of radiological and hazardous contaminants both onsite and offsite of Area IV and maintain surface and groundwater protection in accordance with applicable requirements.

Proposed Action and EIS Scope

DOE's proposed action includes demolition of radiological facilities, demolition of most support buildings, cleanup of solid waste management units, groundwater remediation, mitigation measures, and disposal of all waste offsite at approved facilities.

The EIS will evaluate the remediation of Area IV under current action plans and alternatives to them. The EIS will characterize environmental media, analyze the environmental impact of decontaminating and decommissioning or dismantling government buildings and structures, and analyzing environmental restoration activities for environmental contamination associated with DOE's activities. Waste management activities to be analyzed include operation, maintenance, and closure of RCRA-permitted facilities. The facilities that are to be included in the EIS include former radiological facilities, former sodium facilities, and administrative facilities. The EIS will consider the effects of possible contamination by non-radiological toxic or otherwise hazardous materials and address multiple exposures (chemical and radiological), as well as exposures to multiple radionuclides. The EIS will consider the suitability of Area IV for a range of future land uses, and assess possible radiological contamination of groundwater.

The EIS may be used in the preparation of the Environmental Impact Report that is required by the DTSC Consent Order.

Preliminary Identification of Issues

DOE is requesting input on the best methods to obtain accurate information on radiological and hazardous contamination in Area IV. It is also seeking input from stakeholders to resolve current and potential issues associated with RCRA constituents and to determine the extent of groundwater contamination both onsite and offsite of Area IV.

Preliminary Environmental Impacts for Analysis

DOE has tentatively identified the following environmental impacts for analysis in the Area IV EIS. This list is presented to facilitate early comment during the public involvement activities on the scope of the EIS.

• Potential impacts to the general population, workers, and the environment from radiological and non-radiological releases.

• Potential impacts to soils, air, surface water quality, and groundwater quality.

• Potential transportation impacts from the shipment of radiological and non-radiological wastes to disposal sites.

• Potential impacts from postulated accidents.

• Potential impacts from intentional destructive acts.

• Potential disproportionately high and adverse effects on low-income and minority populations (environmental justice).

• Land use impacts.

• Socioeconomic impacts.

• Ecological resources (endangered species and wetlands).

• Cultural and paleontological resources.

• Compliance with applicable Federal, state and local requirements.

• Long-term site suitability, including erosion and seismicity.

• Cumulative impacts from contamination both onsite and offsite of Area IV.

• Mitigation measures to avoid or mitigate potentially significant environmental impacts.

Invitation To Comment

DOE invites the public to provide early assistance in identifying the scope of the Area IV EIS, alternatives, environmental issues to consider, and environmental impacts to analyze through the early public involvement process. DOE will consider public comments and other relevant information in developing the NOI. Comments should be provided by the DATES and to the ADDRESSES above.

EIS Process

DOE plans to issue the NOI in the spring of calendar year 2008, which will be followed by a public scoping period to assist in further defining the scope of the EIS and identifying significant issues to be addressed. The NOI will propose the range of reasonable alternatives for remediation of the Area IV site. After the NOI is issued, DOE will conduct public scoping meetings. During the scoping period, the dates and locations of meetings will be announced in the local media. DOE will announce the availability of the Draft EIS in the Federal Register and other media and provide Federal and State agencies, State and local governments, natural resource trustees, the general public, and other interested parties with an opportunity to submit comments.

DOE will also hold at least one public hearing in order to gather comments on the sufficiency of the Draft EIS once it is published. These comments will be considered and addressed in the Final EIS. DOE will issue a Record of Decision no sooner than 30 days after EPA's notice of availability of the Final EIS.

Issued in Washington, DC, on October 10, 2007.
Ines R. Triay,
(Acting) Assistant Secretary for Environmental Management.

[FR Doc. E7-20449 Filed 10-16-07; 8:45 am]

BILLING CODE 6450-01-P